DEPARTMENT OF LABOR

Employment and Training Administration

[TA-W-71,608]

Xilinx, Inc., Albuquerque, NM; Notice of Affirmative Determination Regarding Application for Reconsideration

By application dated January 8, 2010, the petitioners requested administrative reconsideration of the negative determination regarding workers' eligibility to apply for Trade Adjustment Assistance (TAA) applicable to workers and former workers of the subject firm. The determination was issued on December 17, 2009. The Notice of Determination will soon be published in the Federal Register.

The initial investigation resulted in a negative determination based on the finding that there was no increase in imports or shift/acquisition to or from abroad by the subject firm of services like or directly competitive with the internal engineering services supplied by workers of the subject firm.

In the request for reconsideration, the petitioners alleged that Xilinx, Inc. shifted provision of engineering services to a foreign country and provided documentation to support their allegations.

The Department has carefully reviewed the request for reconsideration and the existing record and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 25th day of January, 2010.
Del Min Amy Chen,
Certifying Officer, Division of Trade Adjustment Assistance.

[FR Doc. 2010-3016 Filed 2-12-10; 8:45 am]

BILLING CODE 4510-FN-P